DEPARTMENT OF AGRICULTURE

Commodity Credit Corporation

Natural Resources Conservation Service

[Docket ID: NRCS-2022-0003]

Information Collection Request; Partnerships for Climate-Smart Commodities

AGENCY: Commodity Credit Corporation and Natural Resources Conservation Service, United States Department of Agriculture.

ACTION: Notice; request for comments.

SUMMARY: In accordance with the Paperwork Reduction Act of 1995, the Natural Resources Conservation Service (NRCS) is requesting comments from all interested individuals and organizations on a revision and an extension of a currently approved information collection request associated with the Partnerships for Climate-Smart Commodities grant activity. The purpose of the Partnerships for Climate-Smart Commodities is to support the production and marketing of climate-smart commodities through a set of pilot projects that provide voluntary incentives through partners to producers and landowners, including early adopters, to implement climate-smart production practices, activities, and systems on working lands; measure and quantify, monitor and verify the carbon and greenhouse gas (GHG) benefits associated with those practices; and develop markets and promote the resulting climate-smart commodities. Additional information on the partnerships is available at https://www.usda.gov/climate-solutions/climate-smart-commodities.

DATES: We will consider comments that we receive by April 29, 2022.

ADDRESSES: We invite you to submit comments on this notice. You may submit comments, identified by Docket ID: NRCS-2022-0003 in the Federal eRulemaking Portal: Go to https://www.regulations.gov. Follow the online instructions for submitting comments.

You may also send comments to the Desk Officer for Agriculture, Office of Information and Regulatory Affairs, Office of Management and Budget, Washington, DC 20503. Copies of the information collection may be requested by contacting Allison Owens below.

FOR FURTHER INFORMATION CONTACT: Allison Owens, telephone: (202) 253-1449; email: climate-smart-commodities@usda.gov. Persons with disabilities who require alternative mean for communication should contact the USDA's TARGET Center at (202) 720-2600 (Voice).

SUPPLEMENTARY INFORMATION:

Description of Information Collection

Title: Partnerships for Climate-Smart Commodities.

OMB Control Number: 0578-0031.

Type of Request: Revision and Extension.

Abstract: We are requesting comments on the project narrative, proposals, support letters, progress reports, and resumes. In general, reporting for the Partnerships for Climate-Smart Commodities grants will follow the guidelines included in the General Terms and Conditions, which are available at the following website: https://www.fpacbc.usda.gov/about/grants-and-agreements/award-terms-and-conditions/index.html. Prior to publishing this notice, NRCS received emergency approval from OMB for 6 months to cover this collection activity. This included information collection for the application process, which includes in addition to standard government-wide grant application forms, a requirement for applicants to provide a project narrative, proposals, support letters and resumes. This will be included in this regular request after the 60 day comment period.

Partners will be required to submit progress reports after the first quarter and at least biannually on the project, including the following information:

• A list of participating producers and landowners, and demonstration of equitable enrollment, including enrollment of underserved and small producers;

• Climate-Smart Agriculture and Forestry (CSAF) practices applied;

• Outreach and training;

• Financial assistance for producers or landowners to implement CSAF practices;

• Greenhouse gas and carbon sequestration benefits accrued and verified, and other ancillary environmental benefits;

• Marketing and outreach related to climate-smart commodities as a result of project activities, including information on impacts related to a variety of farm sizes and types;

• Technical assistance and resources provided, especially to help producers overcome barriers to adopting CSAF practices;

• Partnerships developed and leveraged, including public-private partnerships to foster and develop CSAF markets;

• Climate-smart commodity supply chain and demand impacts, as well as other economic benefits; and

• Implementation of measurement, monitoring, reporting, and verification, and supply chain traceability systems.

Additional reporting and data-sharing requirements may apply at the time of award, particularly in support of the USDA Partnerships for Climate-Smart Commodities Learning Network. Certain reporting elements will be required to be georeferenced (geospatially referenced). Further, we received Office of Management and Budget (OMB) clearance to use electronic submission form (SF-270, SF-424 and SF-425) in Grants.gov.

For the following estimated total annual burden on respondents, the formula used to calculate the total burden hour is the estimated average time per responses, in hours, multiplied by the estimated total annual responses.

Estimate of Annual Burden: Public reporting burden for the collection of information is estimated to average 10.5 hours per response.

Respondents: Partnerships for Climate-Smart Commodities Applicants and Awardees.

Estimated Number of Respondents: 500.

Estimated Number of Responses per Respondent: 5.

Estimated Total Annual Number of Responses: 1,610.

Estimated Average Time per Response: 10.5 hours.

Estimated Total Annual Burden Hours: 14,370 hours.

We are requesting comments on all aspects of this information collection to help us:

(1) Evaluate whether the proposed collection of information is necessary for the proper performance of the functions of the agency, including whether the information will have practical utility;

(2) Evaluate the accuracy of the agency's estimate of the burden of the collection of information, including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Robert Ibarra,
Executive Vice President, Commodity Credit Corporation.
Terry Cosby,
Chief, Natural Resources Conservation Service.

[FR Doc. 2022-04176 Filed 2-25-22; 8:45 am]

BILLING CODE 3410-05-P